DEPARTMENT OF HOMELAND SECURITY

Transportation Security Administration

Revision of Agency Information Collection Activity Under OMB Review: Aviation Security Customer Satisfaction Performance Measurement Passenger Survey

AGENCY: Transportation Security Administration, DHS.

ACTION: 30-Day notice.

SUMMARY: This notice announces that the Transportation Security Administration (TSA) has forwarded the Information Collection Request (ICR), Office of Management and Budget (OMB) control number 1652-0013, abstracted below to OMB for review and approval of a revision of the currently approved collection under the Paperwork Reduction Act (PRA). The ICR describes the nature of the information collection and its expected burden. This collection involves surveying travelers to measure customer satisfaction with aviation security in an effort to more efficiently manage TSA's security screening performance at airports.

DATES: Send your comments by September 15, 2025. A comment to OMB is most effective if OMB receives it within 30 days of publication.

ADDRESSES: Written comments and recommendations for the proposed information collection should be sent within 30 days of publication of this notice to https://www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on June 2, 2025, 90 FR 23351. TSA did not receive any comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Aviation Security Customer Satisfaction Performance Measurement.

Type of Request: Revision of a currently approved collection.

OMB Control Number: 1652-0013.

Forms(s): Survey.

Affected Public: Traveling public.

Abstract: TSA conducts passenger surveys at airports nationwide. Passengers are invited, though not required, to complete and return surveys by: (1) using a web-based portal on their own electronic devices or a device provided by TSA, (2) responding to TSA personnel capturing verbal responses, or (3) responding in writing to the survey questions on a customer satisfaction card and depositing the card in a drop-box at the airport. Each survey includes up to 10 questions pulled from a list of questions. Each question promotes a quality response so that TSA can identify areas in need of improvement. All questions concern aspects of the passenger's security screening experience.

TSA is revising the collection by removing the optional question which uses the term “gender,” in compliance with section 3(c) of Executive Order 14168 of January 20, 2025 (Defending Women from Gender Ideology Extremism and Restoring Biological Truth to the Federal Government). This section of the Executive Order requires Federal agencies to use the term “sex” and not “gender” in all applicable agency policies and documents.

Estimated Annual Number of Respondents: 9,600.

Estimated Annual Burden Hours: 800.

Dated: August 11, 2025.
Christina A. Walsh,
Paperwork Reduction Act Officer, Office of Information Technology, Transportation Security Administration.

[FR Doc. 2025-15422 Filed 8-13-25; 8:45 am]

BILLING CODE 9110-05-P